ENVIRONMENTAL PROTECTION AGENCY

[FRL-6842-3]

Science Advisory Board; Notification of Public Advisory Committee Meetings

Pursuant to the Federal Advisory Committee Act, Public Law 92-463, notice is hereby given that the Environmental Engineering Committee (EEC), and its Subcommittee, of the USEPA Science Advisory Board (SAB) will hold two meetings on the dates and times noted below. All times noted are Eastern Daylight Time. All meetings are open to the public, however, seating is limited and available on a first come basis. Important Notice: Documents that are the subject of SAB reviews are normally available from the originating EPA office and are not available from the SAB Office—information concerning availability of documents from the relevant Program Office is included below.

1. Natural Attenuation Research Subcommittee—August 14-15, 2000

The Natural Attenuation Research Subcommittee of the Science Advisory Board's (SAB) Environmental Engineering Committee (EEC) will meet from 8:30 am Monday, August 14, 2000 until 3:30 pm Tuesday, August 15, 2000. The meeting will be held in Conference Room AR 6530, USEPA, Ariel Rios Building North, 1200 Pennsylvania Avenue, NW, Washington, DC 20004. The Ariel Rios Building is adjacent to the escalator to the Federal Triangle Metro Station on 12th Street NW.

Purpose of the Meeting—The purpose of this meeting is to complete the Subcommittee's review of EPA's natural attenuation research. This activity began at the January 26 conference call meeting. A preliminary non-consensus draft based on the Subcommittee members individual written comments will be available at the meeting.

Availability of Review Materials: The review materials were announced in previous notices (see 65 FR 1866-1867, January 12, 2000). A limited number of paper copies of these documents can be obtained from Dr. Stephen Schmelling at e-mail: schmelling.steve@epa.gov or via phone at (580) 436-8540.

2. Environmental Engineering Committee Teleconference—September 20, 2000

The Science Advisory Board's Environmental Engineering Committee will meet via teleconference from 3:00 to 5:00 pm Wednesday August 20, 2000. The public is encouraged to attend telephonically. To do so, please contact Ms. Mary Winston at least a week prior to the teleconference at (202) 564-4538, or via e-mail at winston.mary@epa.gov.

Purpose of the Meeting: The Committee plans to review Subcommittee reports, including that of the Natural Attenuation Research Subcommittee, consider future activities, and develop and agenda for its next face-to-face meeting, tentatively planned for December 5-7, 2000.

Availability of Materials: Materials discussed on the conference call will be available in advance. For these materials, please contact Ms. Mary Winston approximately a week before the teleconference at (202) 564-4538, or via e-mail at winston.mary@epa.gov.

For Further Information: Any member of the public wishing further information concerning either meeting or wishing to submit brief oral comments must contact Ms. Kathleen White Conway, Designated Federal Officer, Science Advisory Board (1400A), U.S. Environmental Protection Agency, Ariel Rios Building, 1200 Pennsylvania Avenue, NW, Washington, DC 20460; telephone (202) 564-4559; FAX (202) 501-0582; or via e-mail at conway.katheen@epa.gov. Requests for oral comments must be in writing (e-mail, fax or mail) and received by Ms. Conway no later than noon Eastern Time one week prior to each meeting.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Ms. Conway at least five business days prior to the meeting so that appropriate arrangements can be made.

Dated: July 18, 2000.
John R. Fowle,
Acting Staff Director, Science Advisory Board.

[FR Doc. 00-19011 Filed 7-26-00; 8:45 am]

BILLING CODE 6560-50-P